DEPARTMENT OF COMMERCE

National Institute of Standards and Technology

Submission for OMB Review; Comment Request; BEES (Building for Environmental and Economic Sustainability) Please

The Department of Commerce will submit the following information collection request to the Office of Management and Budget (OMB) for review and clearance in accordance with the Paperwork Reduction Act of 1995, on or after the date of publication of this notice. The public is invited to submit comments on this request.

Agency: National Institute of Standards and Technology.

Title: BEES (Building for Environmental and Economic Sustainability) Please.

OMB Control Number: 0693-0036.

Form Number(s): None.

Type of Request: Renewal of an approved information collection.

Number of Respondents: 30.

Average Hours per Response: 63 minutes.

Burden Hours: 31.5.

Needs and Uses: Bees Please is a voluntary program to collect data from product manufacturers so that the environmental performance of their products may be evaluated scientifically using the BEES software. These data include product-specific materials use, energy consumption, waste, and environmental releases. BEES evaluate these data, translates them into decision-enabling results, and delivers them in a visually intuitive graphical format.

Affected Public: Business or other for-profit organizations.

Frequency: On Occasion.

Respondent's Obligation: Voluntary.

Legal Authority: Not Applicable.

This information collection request may be viewed at www.reginfo.gov. Follow the instructions to view the Department of Commerce collections currently under review by OMB.

Written comments and recommendations for the proposed information collection should be submitted within 30 days of the publication of this notice on the following website www.reginfo.gov/public/do/PRAMain. Find this particular information collection by selecting “Currently under 30-day Review—Open for Public Comments” or by using the search function and entering either the title of the collection or the OMB Control Number 0693-0036.

Dated: March 16, 2020.
Sheleen Dumas,
Department PRA Clearance Officer, Office of the Chief Information Officer, Commerce Department.

[FR Doc. 2020-05713 Filed 3-18-20; 8:45 am]

BILLING CODE 3510-13-P